DEPARTMENT OF TRANSPORTATION

Coast Guard

33 CFR Part 117

CGD08-98-020

RIN 2115-AE47

Drawbridge Operation Regulations: Missouri River

AGENCY: Coast Guard, DOT.

ACTION: Final rule.

SUMMARY: The Coast Guard is revising the regulations governing the operation of the drawbridges across the Missouri River in the States of Missouri, Iowa, Kansas, and Nebraska. The revisions will enable the Coast Guard to coordinate drawbridge operation schedules for these bridges during the winter season with the Army Corps of Engineers' (ACOE) dates of closure and opening of the commercial navigation season on the Missouri River.

DATES: This final rule is effective January 3, 2002.

ADDRESSES: Comments and material received from the public, as well as documents indicated in this preamble as being available in the docket, are part of docket CGD8-98-020 and are available for inspection or copying at Coast Guard District Eight Bridge Branch, 1222 Spruce Street, Suite 2.107f, St. Louis, MO 63103-2832, between 8 a.m. and 4 p.m. Monday through Friday, except Federal Holidays.

FOR FURTHER INFORMATION CONTACT: Roger K. Wiebusch, Bridge Administrator, Eighth Coast Guard District, Bridge Branch, 1222 Spruce Street, St. Louis, MO 63103-2832, at (314) 539-3900, extension 378.

SUPPLEMENTARY INFORMATION:

Regulatory Information

On August 28, 1998, we published a notice of proposed rulemaking (NPRM) entitled Drawbridge Operation Regulations for the Missouri River in the Federal Register (63 FR 45980). No negative comments were received on the proposed rulemaking. No public hearing was requested and none was held.

Background and Purpose

In order to accommodate vessels during the winter season's low-water period, the Missouri River drawbridge operation regulations contained in 33 CFR 117.411(a) and 117.687(a) require that drawbridges on this waterway shall open on signal; except that from 16 December through the last day of February, the draws shall open on signal if at least 24 hours notice is given. Additionally, 33 CFR 117.691 requires that the draw of the Illinois Central Gulf Railroad Bridge located on the Missouri River shall open on signal; except that, from 1 December through the last day of February, the draw shall open on signal if at least 24 hours notice is given. These regulations reflect the actual dates that the ACOE had manipulated the water level on the Missouri River; however, during the past ten years, the ACOE has adopted a more flexible water-management regime. The change implemented by this final rule will bring the drawbridge operating regulations in synch with the commercial navigation season. This will be accomplished by tying the drawbridge on-demand-opening requirement to the ACOE's closure and opening of the commercial navigation season on the Missouri River.

Discussion of Comments and Changes

No negative comments were received during the comment period for the Notice of Proposed Rulemaking. The rule will align the drawbridge regulations with the commercial navigation season and allow bridge owners to more efficiently manage their operations at the beginning and end of the commercial navigation season.

Regulatory Evaluation

This rule is not a “significant regulatory action” under section 3(f) of the Executive Order 12866, Regulatory Planning and Review, and does not require an assessment of potential costs and benefits under section 6(a)(3) of that Order. The Office of Management and Budget has not reviewed it under that Order. It is not “significant” under the regulatory policies and procedures of the Department of Transportation (DOT) (44 FR 11040; February 26, 1979). The Coast Guard expects the economic impact of this rule to be so minimal that a full Regulatory Evaluation under paragraph 10e of the regulatory policies and procedures of DOT is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. There are no small entities involved in this rulemaking.

Assistance for Small Entities

Under section 213(a) of the Small Business Regulatory Enforcement Fairness Act of 1996 (Public Law 104-121), we offered to assist small entities in understanding the rule so that they could better evaluate its effects on them and participate in the rulemaking process. Any individual that qualifies, or believes he or she qualifies, as a small entity, and requires assistance with the provisions of this rule, may contact Mr. Roger K. Wiebusch, Bridge Administrator, Eighth Coast Guard District Bridge Branch, (314) 539-3900, extension 378.

Collection of Information

This final rule calls for no new collection of information under the Paperwork Reduction Act of 1995 (44 U.S.C. 3501-3520).

Federalism

A final rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this final rule will not result in such an expenditure, we do discuss the effects of this rule elsewhere in this preamble. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under Figure 2-1, paragraph 32(e) of Commandant Instruction M16475.1 (series), this rule is categorically excluded from further environmental documentation because promulgation of changes to drawbridge regulations have been found not to have significant effect on the human environment. This rule merely alters the time frame when the drawbridges on the Missouri River are required to open on demand. A “Categorical Exclusion Determination” is available in the docket for inspection or copying where indicated under ADDRESSES.

List of Subjects in 33 CFR Part 117

Bridges.

For the reasons discussed in the preamble, the Coast Guard amends 33 CFR Part 117 as follows:

PART 117—DRAWBRIDGE OPERATION REGULATIONS

1. The authority citation for part 117 continues to read as follows:

Authority: 33 U.S.C. 499; 49 CFR 1.46; CFR 1.05-1(g); section 117.255 also issued under the authority of Public Law 102-587, 106 Stat. 5039.

2. Section 117.411(a) is revised to read as follows:

§ 117.411 Missouri River.

(a) The draws of the bridges across the Missouri River from the mouth to Sioux City, Iowa, shall open on signal; except during the winter season between the date of closure and date of opening of the commercial navigation season as published by the Army Corps of Engineers, the draw need not open unless at least 24 hours advance notice is given.

* * * * *

3. Section 117.687(a) is revised to read as follows:

§ 117.687 Missouri River.

(a) The draws of the bridges across the Missouri River from the mouth to St. Joseph shall open on signal; except during the winter season between the date of closure and date of opening of the commercial navigation season as published by the Army Corps of Engineers, the draw need not open unless at least 24 hours advance notice is given.

* * * * *

4. Section 117.691 is revised to read as follows:

§ 117.691 Missouri River.

The draw of the Illinois Central Gulf Railroad Bridge, mile 618.3, at Omaha, shall open on signal; except during the winter season between the date of closure and date of opening of the commercial navigation season as published by the Army Corps of Engineers, the draw need not open unless at least 24 hours advance notice is given.

Dated: October 31 2001.
Roy J. Casto,
Rear Admiral, U.S. Coast Guard, Commander, Eighth Coast Guard District.

[FR Doc. 01-30018 Filed 12-3-01; 8:45 am]

BILLING CODE 4910-15-P